DEPARTMENT OF THE INTERIOR

National Park Service

Notice of Inventory Completion for Native American Human Remains and Associated Funerary Objects in the Possession of the Louisiana State University Museum of Natural Science, Baton Rouge, LA

AGENCY: National Park Service.

ACTION: Notice.

Notice is hereby given in accordance with provisions of the Native American Graves Protection and Repatriation Act (NAGPRA), 43 CFR 10.9, of the completion of an inventory of human remains and associated funerary objects in the possession of the Louisiana State University Museum of Natural Science, Baton Rouge, LA.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by Louisiana State University Museum of Natural Science professional staff in consultation with representatives of the Chickasaw Nation, Oklahoma; and the Chitimacha Tribe of Louisiana.

In 1937, human remains representing one individual were removed from the Glenn McCullogh Place (“the Burial Ground”) (22LE011), Lee County, MS, by Moreau B. Chambers. Mr. Chambers donated these human remains to the Louisiana State University Museum of Natural Science the same month. No known individual was identified. No associated funerary objects are present.

Recent archeological research, including a review of the site records and the artifact assemblage, suggests that Site 22LE011 was the site of the short-lived Chickasaw village of “Etoukouma,” inhabited during the early 1700's. The burial, presumably, dates to this occupation.

In 1937, human remains representing one individual were removed from the Alston Place Site (22LE014), Lee County, MS, by Moreau B. Chambers. Mr. Chambers donated these human remains to the Louisiana State University Museum of Natural Science the same year. No known individual was identified. No associated funerary objects are present. Unassociated funerary objects from the Alston Place Site in the Louisiana State University Museum of Natural Science also were removed during these excavations.

The Alston Place Site is a fortified habitation site. Archeological evidence dates the latest occupation to the 18th century. The site has been identified both as an unnamed Chickasaw village and as the Natchez village of “Falatchao.” Falatchao was established after the Natchez fled their lands following defeat by the French in 1729. The Chitimacha Tribe of Louisiana is the sole remaining Federally recognized tribe that share cultural attributes with the late prehistoric Delta-Natchezan complex from which both the Natchez and the Chitimacha derived. On the basis of linguistic and sociocultural evidence, the Chitimacha Tribe of Louisiana is considered to be the most closely related of the Federally recognized Native American groups.

Based on the above-mentioned information, Louisiana State University Museum of Natural Science officials have determined that, pursuant to 43 CFR 10.2(d)(1), the human remains listed above represent the physical remains of two individuals of Native American ancestry. Officials of the Louisiana State University Museum of Natural Science also have determined that, pursuant to 43 CFR 10.2(e), there is a relationship of shared group identity that can be reasonabley traced between these Native American human remains and the Chickasaw Nation, Oklahoma; and the Chitimacha Tribe of Louisiana.

This notice has been sent to officials of the Chickasaw Nation, Oklahoma; and the Chitimacha Tribe of Louisiana. Representatives of any other Indian tribe that believes itself to be culturally affiliated with these human remains should contact Dr. Rebecca Saunders, Assistant Curator of Anthropology, Louisiana State Museum of Natural Science, 119 Foster Hall, Baton Rouge, LA 70803, telephone (225) 578-6562, before January 12, 2001. Repatriation of these human remains to the Chickasaw Nation, Oklahoma; and the Chitimacha Tribe of Louisiana may begin after that date if no additional claimants come forward.

Dated: November 30, 2000.
John Robbins,
Assistant Director, Cultural Resources, Stewardship, and Partnerships.

[FR Doc. 00-31660 Filed 12-12-00; 8:45 am]

BILLING CODE 4310-70-F-M